DEPARTMENT OF COMMERCE

National Oceanic and Atmospheric Administration

[RTID 0648-XB014]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day meeting via webinar of its Standing, Reef Fish, Socioeconomic, Mackerel, Shrimp and Ecosystem Scientific and Statistical Committees (SSC).

DATES: The meeting will be held on Monday, May 3, 2021 to Wednesday, May 5, 2021, from 9 a.m. to 5 p.m., EDT.

ADDRESSES: The meeting will take place via webinar; you may register by visiting www.gulfcouncil.org and clicking on the SSC meeting on the calendar.

Council address: Gulf of Mexico Fishery Management Council, 4107 W. Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Monday, May 3, 2021; 9 a.m.-5 p.m., EDT

The meeting will begin with Introductions and Adoption of Agenda, Approval of Verbatim Minutes and Meeting Summary from March 30-April 2, 2021, webinar meeting, review of the Scope of Work, and selection of an SSC Representative for the June 21-25, 2021 Gulf Council Meeting.

The Committees will review a presentation on Management Considerations for Using Interim Analyses, followed by the Gulf Red Grouper Updated Indices of Abundance, and the Gulf Penaeid Shrimp Working Groups and Gulf Royal Red Shrimp Index Presentations and Projections. The Committees will discuss the SEDAR 74 workshop participation solicitation and schedule, receive presentations on the Joint Grouper-Tilefish and Red Snapper Individual Fishing Quotas (IFQ) Program Review, and a presentation on the Allocation Review Guidelines.

Tuesday, May 4, 2021; 9 a.m.-5 p.m., EDT

The Committees will review and hold discussions on Tier 1 of the Council's Acceptable Biological Catch (ABC) Control Rule, including the Scope of Work, presentations, and background materials.

Wednesday, May 5, 2021; 9 a.m.-5 p.m., EDT

The Committees will review National Marine Fisheries Service (NMFS) Policy Document: Determination of Best Scientific Information Available (BSIA) in the Southeast Region. A presentation on Gulf Gray Triggerfish Age Validation Challenges and Recommendations will be given, followed by the Committees receiving public comment, and then discussion of Other Business items.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: April 13, 2021.
Tracey L. Thompson,
Acting Deputy Director, Office of Sustainable Fisheries, National Marine Fisheries Service.

[FR Doc. 2021-07873 Filed 4-15-21; 8:45 am]

BILLING CODE 3510-22-P